OFFICE OF SCIENCE AND TECHNOLOGY POLICY

Subcommittee on Forensic Science; Committee on Science; National Science and Technology Council

ACTION: Notice of Panel Session. Public input is requested concerning appropriate Federal Executive Branch responses to the National Academy of Sciences 2009 report: “Strengthening Forensic Science in the United States: A Path Forward” (http://www.nap.edu/catalog.php?record_id=12589#toc).

SUMMARY: The Subcommittee on Forensic Science (SOFS) of the National Science and Technology Council's (NSTC's) Committee on Science will host a public forum in collaboration with the annual scientific meeting of the American Academy of Forensic Sciences (AAFS). The role of the SOFS is to coordinate Federal activities and advise the Executive Office of the President on national efforts to improve forensic science and its application in America's justice system. This special session will serve to provide attendees with an update on the Subcommittee's work and provide an opportunity for the public to ask questions and provide comments.

Dates and Addresses: The session will be held in conjunction with the 62nd Annual Scientific Meeting of the American Academy of Forensic Sciences, at the Washington State Convention and Trade Center, 800 Convention Place, Seattle, WA 98101 on Friday, February 26, 2010, from 7 p.m. to 8:30 p.m. Check the meeting registration desk for room location. Information regarding the 62nd AAFS Annual Meeting is available at the AAFS Web site: http://www.aafs.org.

Note: Persons solely attending the SOFS public session do not need to register for the AAFS Annual Meeting to attend. There will be no admission charge for persons solely attending the public meeting. Seating is limited and will be on a first come, first served basis. For those who cannot attend but wish to provide written comments or questions, please do so by sending an email to the Subcommittee's Executive Secretary, Robin Jones, at: Robin.W.Jones@usdoj.gov, no later than Friday, February 19, 2010.

FOR FURTHER INFORMATION CONTACT: Additional information and links to the Subcommittee on Forensic Science can be obtained through the Office of Science and Technology Policy's NSTC Web site at http://www.ostp.gov/cs/nstc or by calling 202-353-2436.

Kenneth E. Melson,
Co-Chair, Subcommittee on Forensic Science.

[FR Doc. 2010-1813 Filed 1-28-10; 8:45 am]

BILLING CODE 4410-FY-P